POSTAL SERVICE

39 CFR Part 111

Address Sequencing Service

AGENCY: Postal Service.

ACTION: Final rule.

SUMMARY: This final rule adopts a proposal to amend section A920 of the Domestic Mail Manual (DMM) to provide an electronic address sequencing service.

EFFECTIVE DATE: July 5, 2001.

FOR FURTHER INFORMATION CONTACT: DeWitt Crawford, 901-681-4612.

SUPPLEMENTARY INFORMATION: On September 19, 2000, the Postal Service published in the Federal Register a proposed rule to amend section A920 of the Domestic Mail Manual (65 FR 56518). Five comments were received. All responses were in support of the proposal, and only one of the five offered suggested changes. In summary, the following concerns were offered: Concern in making sure that requestors of sequencing services are fully aware that owners of Computerized Delivery Sequence (CDS) qualified address files will include seeded addresses, provided by the USPS, for the purpose of fraud prevention. The same concern as indicated in number 1 in regards to list owners being notified of potential fraudulent use of their address files. Concern in the time frame and number of attempts customers can submit address files for qualification. Proposal to implement a simplified payment for electronic file services. Establishment of an effective date for the activation of electronic services and the discontinuation of the manual address card services. The first four suggestions were accepted, with minor modifications, but the fifth suggestion was not accepted because we felt that we need to evaluate how well the electronic process functions before we eliminate an existing service. The revisions to proposed DMM A920 are shown below.

List of Subjects in 39 CFR Part 111

Administrative practice and procedure, Postal Service.

PART 111—[AMENDED]

1. The authority citation for 39 CFR part 111 is revised to read as follows:

Authority: 5 U.S.C. 552 (a); 39 U.S.C. 101, 401, 403, 414, 3001-3011, 3201-3219, 3403-3406, 3621, 3626, 5001.

2. The Domestic Mail Manual is amended by revising module A to read as follows.

Domestic Mail Manual (DMM)

A Addressing

* * * * *

A900 Customer Support

* * * * *

A920 Address Sequencing Services

1.0 SERVICE LEVELS

[Amend 1.0 to add electronic file options to read as follows:]

The USPS provides the following levels of manual or electronic address sequencing service for city carrier routes, rural routes, highway contract routes, and post office box sections:

a. Sequencing of address cards or electronic address files.

b. Sequencing of address cards or electronic address files, plus inserting only blank cards for missing addresses or missing sequence numbers for the addresses missing from the electronic files.

c. Sequencing of address cards or electronic address files, plus inserting cards with addresses for missing or new addresses, or inserting addresses into electronic files for missing or new addresses.

d. For address cards or electronic files, if qualification is met, the Postal Service will provide seeded addresses to the list owners for inclusion in their address files for file protection.

e. If a request for sequencing contains a seeded address, the owner of the seeded address will be notified within 30 days of detection. If all known possibilities of fraud can not be ruled out, the request will be denied and the Postal Inspection Service will be notified.

[Amend the heading of 2.0 to read as follows:]

2.0 CARD OR FILE PREPARATION AND SUBMISSION

2.1 Color and Size

[Amend 2.1 to read as follows:]

When submitting cards, all address cards must be made of white or buff-colored card stock and of an identical size (5 to 8 5/16 inches long and 2¼ to 4¼ inches high). Blank cards for missing and/or new addresses must be of the same size as the submitted address cards but of a different color. A customer must provide enough cards to equal at least 10% of the number of address cards submitted.

2.2 Limitation

[Amend 2.2 to read as follows:]

The customer must not submit address cards or an address file in excess of 110% of the possible deliveries for a specific 5-digit ZIP Code delivery area. Customers requesting the service level in A920.1.0c will be allowed three attempts to qualify a ZIP Code for the service within a 12-month period. Failure to qualify within three attempts within 12 months will result in a suspension of 1 year for any additional attempts to qualify the ZIP Code.

2.3 Addressing Format

[Amend 2.3 to read as follows:]

Addressing format is specific to the media being used.

a. Card Processing. Cards must be faced in the same direction and bear only one address each. The customer's current address information must be computer-generated, typed, or printed along the top of the card. The address must be within 1 inch from the top edge of the card in about the same location on each card submitted. Each card must include a complete address, but the ZIP Code is optional. Street designators may be abbreviated as shown in Publication 28, Postal Addressing Standards. When sequence cards are used to obtain address sequencing information for post office boxes, the box section number must be substituted for the carrier route number (if shown).

b. Electronic Processing. The customer must submit address files on electronic media, as described by the Postal Service. Call the National Customer Support Center at 1-800-331-5747 for a copy of the required format.

2.4 Header Cards

[Amend the first sentence of 2.4 and add a second sentence to read as follows:]

When submitting address cards customers must provide carrier route header cards, prepared with standard 80-column computer card stock (or another size as described above). The header cards must be typed, computer-generated, or printed by the customer. * * *

2.5 Delivery Unit Summary

[Amend 2.5 to read as follows:]

A Delivery Unit Summary must be typed, computer-generated, or printed, and provided by the customer for card processing. A printed copy or electronic file will be acceptable for address file submissions. When submitting address cards, an original and two copies must be submitted for each 5-digit ZIP Code delivery area. When submitting an address file, an original and two copies of a printed form or one electronic file must be submitted for each 5-digit ZIP Code delivery area. This form, used by the Postal Service to provide summary information to the customer, is necessary for calculating total charges for the service level provided. For address card submissions, the original is returned to the customer with the cards as the customer's bill. For electronic address file submissions, a computer-generated Delivery Unit Summary is returned as the customer's bill. Upon receipt of payment, the ZIP Code will be qualified for Computerized Delivery Sequence (CDS), and product fulfillment will begin. Examples of the required hardcopy or electronic format of the Delivery Unit Summary can be obtained from the National Customer Support Center (see G043 for address).

2.6 5-digit ZIP Codes

[Amend the first sentence of 2.6 to read as follows:]

When submitting address cards, the cards for each 5-digit ZIP Code area must be placed in separate containers, each with an envelope affixed containing a packing list and Delivery Unit Summary sheets for that 5-digit ZIP Code area. * * *

[Amend the heading and text of 2.7 to read as follows:]

2.7 Submitting Cards or Electronic Files

The designated place for submission of addresses for sequencing depends on the type of media used.

a. Card Processing. The customer must submit the containers of address cards to the district manager of Address Management Systems for carrier routes within the corresponding district. (Exception: Address cards only for addresses in the city where the customer is located may be submitted to the postmaster of that city for sequencing and correction.) Unless directed otherwise, the customer must address containers of address cards to: Manager Address Management Systems, United States Postal Service, [Street Address], [City/State/Zip+4].

b. Electronic Processing. The customer must submit address files on electronic media, as described by the Postal Service, to: Computerized Delivery Sequencing Department, National Customer Support Center, United States Postal Service, 6060 Primacy PKWY STE 201, Memphis TN 38188-0001.

2.8 Postage

[Amend 2.8 by inserting the following after the first sentence:]

* * * Address files can be mailed at the appropriate rate or be electronically transmitted, as determined by the USPS, to the National Customer Support Center. * * *

2.9 USPS Sequencing

[Amend 2.9 to read as follows:]

Unsequenced address cards received at post offices or unsequenced address files received at the National Customer Support Center will be arranged in sequence of carrier route delivery without charge. Cards with incorrect or undeliverable addresses are removed from carrier route bundles, bundled separately, and returned to the customer. When address files are submitted, incorrect or undeliverable addresses are removed from the original file and returned as a separate file.

[Amend the heading of 2.10 to read as follows:]

2.10 USPS Time Limits and Billing

[Amend 2.10 so that the first sentence reads as follows:]

The post office or the National Customer Support Center, whichever performs the service, returns the cards or address file and the bill for applicable charges to the customer within 15 working days after receiving a properly prepared request for address sequencing. * * *

2.11 Seasonal Addresses

[Amend 2.11 to read as follows:]

Under all service levels, correct addresses subject to seasonal occupancy, but which do not indicate seasonal treatment, will be identified with an “S” on cards or a flag on address files. If the address is included in a series such as those used for apartment buildings, trailer parks, and seasonal delivery areas in general, the appropriate “seasonal” indicator box is checked on the card or flagged on the address file. When correct address cards or address files that are not subject to seasonal occupancy but that include seasonal treatment notations are submitted, the seasonal indicator is marked out on cards or left blank on address files. For cards, a rubber band is placed around the card to identify it before it is put in carrier route sequence order in the returned deck of cards. No charge is assessed for this service.

[Amend the heading of 3.0 to read as follows:]

3.0 SEQUENCING CARDS WITH BLANKS FOR MISSING ADDRESSES OR SEQUENCING ADDRESSES FILES WITH MISSING SEQUENCE NUMBERS

3.1 USPS Sequencing

[Amend 3.1 to read as follows:]

USPS employees at post offices (for cards) or the National Customer Support Center (for address files) arrange unsequenced addresses in sequence of carrier route delivery without charge, remove incorrect or undeliverable addresses and, if cards, bundle separately for return to the customer, insert a blank card or missing sequence number (for address files only) for each existing address that is not included in the customer's cards or address file. (If several addresses in a series are missing, a single blank card is inserted for the series showing the number of missing addresses, or for address files a series of missing sequence numbers will be omitted identifying the number of missing addresses.)

[Amend the heading of 3.2 to read as follows:]

3.2 USPS Time Limits and Billing

[Amend 3.2 to read as follows:]

The post office (for cards) or the National Customer Support Center (for address files) returns the cards or address file along with a bill for applicable charges to the customer within 15 working days after receiving a properly prepared request for address sequencing. This time limit does not apply to cards received between November 16 and January 1, which are sequenced as promptly as possible.

[Amend the heading of 4.0 to read as follows:]

4.0 SEQUENCING WITH ADDRESS CARDS OR ADDRESS FILE SEQUENCING WITH ADDRESSES ADDED FOR MISSING AND NEW ADDRESSES

4.1 USPS Sequencing

[Amend 4.1 to read as follows:]

USPS employees at post offices (for cards) or the National Customer Support Center (for address files) arrange unsequenced addresses in sequence of carrier route delivery without charge, remove incorrect or undeliverable addresses and, if cards, bundle separately for return to the customer or, if an address file, return as a separate file, and add new or missing addresses (including rural address conversions to city delivery) for each existing address that is not included in the customer's cards or address file.

[Amend the heading and text of 4.2 to read as follows:]

4.2 Separate Address Groups

Separate groups of address cards must be submitted for the addresses in each 5-digit ZIP Code delivery area: city carrier (residential addresses only); city carrier (business addresses only); city carrier (combination of residential and business addresses); rural and highway contract route addresses; or post office box addresses (whether business, residential, or a combination). If submitting an electronic address file, a single file meeting the same requirements is acceptable. Each group must be accompanied by a statement showing:

a. Types of addresses (i.e., residential, business, or a combination).

b. Number of addresses on the cards or in the address file.

c. Name, mailing address, and telephone number of the list owner or agent.

* * * * *

4.4 Address Percentage

[Amend 4.4 to read as follows:]

For the 5-digit ZIP Code area, the mailing list that the cards or address file represents must contain 90% of all possible residential or business city carrier addresses for addresses in the respective address group, 90% of all city carrier addresses for addresses in a combination residential/business address group, or 90% of all possible deliveries for addresses in rural/highway contract route and post office box groups.

* * * * *

[Amend the heading and the first sentence of 4.6 to read as follows:]

4.6 Resubmitting Cards or Address File

Customers must monitor community growth and determine when address cards or address files need to be submitted for resequencing to maintain the 90% eligibility level of address coverage. * * *

5.0 SERVICE CHARGES

5.1 Basic Service

[Amend the first sentence of 5.1 to read as follows:]

For sequencing of address cards or address files, the applicable fee is charged for each address card or address that is removed because of an incorrect or undeliverable address. * * *

5.2 Blanks for Missing Addresses

[Amend 5.2 to read as follows:]

For sequencing of address cards or address files with total possible deliveries shown, the applicable fee is charged for each address card or address that is removed because it is incorrect or undeliverable. No charge is assessed for the insertion of blank cards or missing sequence numbers (for address files) showing the range of missing addresses in a submitted list.

5.3 Missing or New Addresses

[Amend the first sentence of 5.3 to read as follows:]

For sequencing of address cards or address files with missing or new addresses added, the applicable fee is charged for each address card or address that is removed because it is incorrect or undeliverable, and for each address (possible delivery) that is added to the customer's list. * * *

* * * * *

5.5 Free Services

[Amend 5.5a to read as follows:]

These services are provided at no charge for all three levels of service:

a. If the customer includes a rural address (box number) in a deck of cards or address file submitted for sequencing, and a street address is assigned to that box number so it can be served on a city delivery route, a correct address card or address is included at no charge.

* * * * *

6.0 Submitting Properly Sequenced Mailings

6.1 Customer Responsibility

[Amend the first sentence in 6.1 to read as follows:]

The customer must ensure that mailings are prepared in correct carrier route delivery sequence, and resequence cards or an address file when necessary. * * *

6.2 Changes

[Amend 6.2 to read as follows:]

When delivery changes affect delivery sequence but do not cause scheme changes, card customers will be notified in writing and must then submit cards for the affected routes or the complete ZIP Code for resequencing. Computerized Delivery Sequence (CDS) customers will automatically receive an updated electronic file from the Postal Service.

6.3 Out-of-Sequence

[Amend the third sentence in 6.3 to read as follows:]

* * * If the customer does not take corrective action, the USPS gives written notice that the customer is no longer allowed to submit address cards to the post office or address files to the National Customer Support Center for sequencing. * * *

6.4 Reinstatement

[Amend 6.4 to read as follows:]

Generally, a customer denied address card or address file sequencing service for a specific ZIP Code may not submit address cards (to the post office) or address files (to the National Customer Support Center) for sequencing where that sequencing service was terminated for 1 year after the effective date of termination. After that time, the customer is again authorized to submit the ZIP Code address cards (to the post office) or address files (to the National Customer Support Center) for sequencing. At any time during the year after termination of service, the customer may renew the submission if the postmaster (for address cards) or the National Customer Support Center (for address files) is convinced that the customer has taken all necessary action to correct the past errors.

Stanley F. Mires,
Chief Counsel, Legislative.

[FR Doc. 00-32159 Filed 12-18-00; 8:45 am]

BILLING CODE 7710-12-P